DEPARTMENT OF TRANSPORTATION

Office of the Secretary

Privacy Act of 1974: System of Records

AGENCY: Department of Transportation (DOT), Office of the Secretary.

ACTION: Notice to add a system of records.

SUMMARY: DOT proposes to add a system of records under the Privacy Act of 1974. The system is DOT's implementation of the Department of Interior's (DOI's) Federal Personnel and Payroll System (FPPS). The system of records consists of human resources (HR) and payroll data moved from DOT's legacy HR and payroll systems to FPPS as well as new data added to FPPS. This system would not duplicate any other DOT system of records.

DATES: Effective Date: This notice will be effective, without further notice, on December 17, 2008, unless modified by a subsequent notice to incorporate comments received by the public. Comments must be received by December 17, 2008 to be assured consideration.

ADDRESSES: Send comments to Habib Azarsina, Departmental Privacy Officer, S-80, United States Department of Transportation, Office of the Secretary of Transportation, 1200 New Jersey Avenue, SE., Washington, DC 20590 or habib.azarsina@dot.gov.

FOR FURTHER INFORMATION CONTACT: Habib Azarsina, Departmental Privacy Officer, S-80, United States Department of Transportation, Office of the Secretary of Transportation, 1200 New Jersey Avenue, SE., Washington, DC 20590; telephone 202.366.1965, or habib.azarsina@dot.gov.

SUPPLEMENTARY INFORMATION: The DOT system of records notice subject to the Privacy Act of 1974 (5 U.S.C. 552a), as amended, as proposed to be added, is available from the above mentioned address and appears below:

SYSTEM NUMBER:

DOT/ALL 19.

SYSTEM NAME:

Federal Personnel and Payroll System (FPPS).

SECURITY CLASSIFICATION:

Unclassified, sensitive.

SYSTEM LOCATION:

This system of record is in the National Business Center, U.S. Department of the Interior, 7301 West Mansfield Avenue, MS D-2400, Denver, CO 80235-2230.

CATEGORIES OF INDIVIDUALS COVERED BY THE SYSTEM:

Prospective, present, and former employees in the Office of the Secretary of Transportation, OST; Federal Aviation Administration, FAA; Federal Highway Administration, FHWA; Federal Railroad Administration, FRA; Federal Transit Administration, FTA; Maritime Administration, MARAD; National Highway Traffic Safety Administration, NHTSA; Office of the Inspector General, OIG; St. Lawrence Seaway Development Corporation, SLSDC; Federal Motor Carrier Safety Administration, FMCSA; Pipeline and Hazardous Materials Safety Administration, PHMSA; Research and Innovative Technology Safety Administration, RITA; and the Surface Transportation Board, STB.

CATEGORIES OF RECORDS IN THE SYSTEM:

Employee name, Social Security number, and organizational code; pay rate and grade, retirement, and location data; length of service; pay, leave, time and attendance, allowances, and cost distribution records; deductions for Medicare or FICA, savings bonds, FEGLI, union dues, taxes, allotments, quarters, charities, health benefits, and Thrift Savings Fund contributions; awards, shift schedules, pay differentials, IRS tax lien data, commercial garnishments, child support and/or alimony wage assignments; and related payroll and personnel data. Also included is information on debts owed to the Government as a result of overpayment, refunds owed, or a debt referred for collection on a transferred employee. The payroll, attendance, retirement, and leave records described in this notice form a part of the information contained in DOI's integrated Federal Personnel Payroll System (FPPS). Personnel, but not payroll, records contained in the system are covered under the Government-wide system of records notice published by the Office of Personnel Management (OPM/GOVT-1).

AUTHORITY FOR MAINTENANCE OF THE SYSTEM:

5 U.S.C. 5101, et seq.; 31 U.S.C. 3512.

PURPOSE(S):

The purpose for collecting the data in the FPPS System of Records is to control and facilitate payment of salaries to DOT civilian employees.

ROUTINE USES OF RECORDS MAINTAINED IN THE SYSTEM, INCLUDING CATEGORIES OF USERS AND THE PURPOSES OF SUCH USES:

The primary uses of the records are for fiscal operations for payroll, attendance, leave, insurance, tax, retirement, budget, and cost accounting programs; and to prepare related reports to other Federal agencies including the Department of the Treasury and the Office of Personnel Management. Disclosures outside DOT and DOI may be made:

(1) To the Department of the Treasury for preparation of payroll (and other) checks and electronic funds transfers to Federal, State, and local government agencies, non-governmental organizations, and individuals.

(2) To the Internal Revenue Service and to State, local, tribal, and territorial governments for tax purposes.

(3) To the Office of Personnel Management in connection with programs administered by that office.

(4) To any other Federal agency to which an employee has transferred.

(5) To the Department of Justice, or to a court, adjudicative or other administrative body, or to a party in litigation before a court or adjudicative or administrative body, when:

(a) One of the following is a party to the proceeding or has an interest in the proceeding:

(1) The Department or any component of the Department;

(2) Any Departmental employee acting in his or her official capacity;

(3) Any Departmental employee acting in his or her individual capacity where the Department or the Department of Justice has agreed to represent the employee; or

(4) The United States, when the Department determines that the Department is likely to be affected by the proceeding; and

(b) The Department deems the disclosure to be:

(1) Relevant and necessary to the proceeding; and

(2) Compatible with the purpose for which it compiled the information.

(6) To the appropriate Federal, State, tribal, local or foreign governmental agency that is responsible for investigating, prosecuting, enforcing or implementing a statute, rule, regulation order or license, when the Department becomes aware of an indication of a violation or potential violation of the statute, rule, regulation, order or license.

(7) To appropriate Federal and State agencies to provide required reports including data on unemployment insurance.

(8) To the Social Security administration to report FICA deductions.

(9) To labor unions to report union dues deductions.

(10) To insurance carriers to report withholdings for health insurance.

(11) To charitable institutions to report contributions.

(12) To a Federal agency for the purpose of collecting a debt owed the Federal government through administrative or salary offset.

(13) To provide addresses obtained from the Internal Revenue Service to debt collection agencies for purposes of locating a debtor to collect or compromise a Federal claim against the debtor.

(18) To the Federal Retirement Thrift Investment Board with respect to Thrift Savings Fund contributions.

(19) To disclose debtor information to the Internal Revenue Service or to another Federal agency or its contractor solely to aggregate information for the Internal Revenue Service, to collect debts owed to the Federal Government through the offset of tax refunds.

(20) To disclose the names, social security numbers, home addresses, dates of birth, dates of hire, quarterly earnings, employer identifying information, and State of hire of employees to the Office of Child Support Enforcement, Administration for Children and Families, Department of Health and Human Services for the purposes of locating individuals to establish paternity, establishing and modifying orders of child support, identifying sources of income, and for other child support enforcement actions as required by the Personal Responsibility and Work Opportunity Reconciliation Act (Welfare Reform Law, Pub. L. 104-193).

DISCLOSURE TO CONSUMER REPORTING AGENCIES:

Disclosure pursuant to 5 U.S.C. 552a (b)(12). Disclosures may be made from this system to consumer reporting agencies as defined in the Fair Credit Reporting Act (15 U.S.C. 1681a(f)) or the Federal Claims Act of 1966 (31 U.S.C. 3701(a)(3)).

POLICIES AND PRACTICES FOR STORING, RETRIEVING, ACCESSING, RETAINING, AND DISPOSING OF RECORDS IN THE SYSTEM: STORAGE:

Records are maintained in manual, microfilm, microfiche, electronic, imaged and computer printout form. Current records are stored on magnetic media at DOI's central computer processing center; historic records are stored on magnetic media at DOI's central computer center. Original input documents are stored in standard office filing equipment and/or as imaged documents on magnetic media at all locations which prepare and provide input documents and information for data processing.

RETRIEVABILITY:

Records are retrieved by name, Social Security number, and organizational code.

SAFEGUARDS:

Access to all records in the system is limited to authorized personnel whose official duties require such access. Paper or micro format records are maintained in locked metal file cabinets in secured rooms. Electronic records are maintained with safeguards meeting the security requirements of 49 CFR 10.3.

RETENTION AND DISPOSAL:

The records contained in this system of records have varying retention periods as described in General Records Schedule 2, (available on-line at http://www.nara.gov), issued by the Archivist of the United States, and are disposed of in accordance with the National Archives and Records Administration Regulations, 36 CFR part 1228 et seq.

SYSTEM MANAGER(S) AND ADDRESS:

The following system manager is responsible for the payroll records contained in the Federal Personnel Payroll System (FPPS). Personnel records contained in the system fall under the jurisdiction of the Office of Personnel Management as prescribed in 5 CFR part 253 and 5 CFR part 297: Chief, FPPS Management Division, National Business Center, U.S. Department of the Interior, 7301 West Mansfield Avenue, Denver, CO 80235-2230.

NOTIFICATION PROCEDURE:

Inquiries regarding the existence of records should be addressed to the System Manager. The request must be in writing, signed by the requester, and meet the content requirements of 49 CFR 10.31.

RECORD ACCESS PROCEDURES:

A request for access may be addressed to the System Manager. The request must be in writing, signed by the requester, and meet the content requirements of 49 CFR 2.63.

CONTESTING RECORD PROCEDURES:

A petition for amendment should be addressed to the System Manager.

The request must be in writing, signed by the requester, and meet the content requirements of 49 CFR 10.41.

RECORD SOURCE CATEGORIES:

Individuals on whom the records are maintained, official personnel records of individuals on whom the records are maintained, supervisors, timekeepers, previous employers, and the Internal Revenue Service.

EXEMPTIONS CLAIMED FOR THE SYSTEM:

None.

Dated: November 3, 2008.
Habib Azarsina,
Departmental Privacy Officer.

[FR Doc. E8-26595 Filed 11-6-08; 8:45 am]

BILLING CODE 4910-9X-P